DEPARTMENT OF TRANSPORTATION

Maritime Administration

[Docket No. MARAD-2024-0104]

Request for Comments on the Renewal of a Previously Approved Collection: Determining Vessel Services Categories for Purposes of the Cargo Preference Act

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0540 (Determining Vessel Services Categories for Purposes of the Cargo Preference Act) will be used to create a list of Vessel Self-Designations. We are required to publish this notice in the Federal Register to obtain comments from the public and affected agencies. A 60-day Federal Register Notice soliciting comments on this information collection was published on April 3, 2024 (Federal Register (FR) 23082, Vol. 89, No. 65).

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Matthew Duggan, 202-366-5787, Office of Cargo and Commercial Sealift, Maritime Administration, U.S. Department of Transportation, 1200 New Jersey Avenue SE, Washington, DC 20590, Email: matthew.duggan@dot.gov.

SUPPLEMENTARY INFORMATION:

Title: Determining Vessel Services Categories for Purposes of the Cargo Preference Act.

OMB Control Number: 2133-0540.

Type of Request: Extension Without Change of a Previously Approved Information Collection.

Abstract: OMB 2133-0540 (Determining Vessel Services Categories for Purposes of the Cargo Preference Act) is used in the designation of service categories of individual vessels, which is required for compliance with the Cargo Preference Act under a Memorandum of Understanding entered into by the U.S. Department of Agriculture, U.S. Agency for International Development, and the Maritime Administration (MARAD). MARAD will use the data submitted by vessel operators to create a list of Vessel Self-Designations.

Respondents: Vessel owners/operators or their appointed agents.

Affected Public: Business or other for-profit entities owning and/or operating ocean vessels.

Estimated Number of Respondents: 200.

Estimated Number of Responses: 200.

Estimated Hours per Response: 0.25.

Annual Estimated Total Annual Burden Hours: 50.

Frequency of Response: Once annually (if needed).

(Authority: The Paperwork Reduction Act of 1995; 44 U.S.C. chapter 35, as amended; and 49 CFR 1.49.)

By Order of the Maritime Administrator.
T. Mitchell Hudson, Jr.,
Secretary, Maritime Administration.

[FR Doc. 2024-17055 Filed 8-1-24; 8:45 am]

BILLING CODE 4910-81-P